DEPARTMENT OF JUSTICE

Office of Community Oriented Policing Services

Agency Information Collection Activities: Proposed Collection; Comments Requested

ACTION: 60-Day notice of information collection under review: revision of currently approved collection; COPS Count Survey.

The Department of Justice (DOJ) Office of Community Oriented Policing Services (COPS) has submitted the following information collection request to the Office of Management and Budget (OMB) for review and approval in accordance with the Paperwork Reduction Act of 1995. The proposed information collection is published to obtain comments from the public and affected agencies. Comments are encouraged and will be accepted for sixty days until June 23, 2003. This process is conducted in accordance with 5 CFR 1320.10.

If you have comments especially on the estimated public burden or associated response time, suggestions, or need a copy of the proposed information collections instrument with instructions or additional information, please contact Gretchen DePasquale, (202) 305-7780, Office of Community Oriented Policing Services, 1100 Vermont Avenue, NW., Washington, DC 20530.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this Information Collection

(1) Type of Information Collection: Revision of currently approved collection.

(2) Title of the Form/Collection: COPS Count Survey.

(3) Agency form number, if any, and the applicable component of the Department of Justice sponsoring the collection: Form: COPS 301/01. Office of Community Oriented Policing Services.

(4) Affected public who will be asked or required to respond, as well as a brief abstract:

Primary: The COPS Count Project surveys agencies that have been awarded a Hiring and/or MORE grants from the COPS Office. Other: None. The information collected provides an accurate up to date account on the status of officers hired/redeployed. This enables COPS to assess the hiring/redeployment progress of awarded grants. This information is also utilized by the Grant Monitoring Division for pre-site preparation and the Grants Administration Division to further enhance the customer service component of the COPS Office. The Program Policy Support and Evaluation Division uses this information for evaluation of the programs funded by the COPS Office as well as the development of future programs.

(5) An estimate of the total number of respondents and the amount of time estimated for an average respondent to respond: There will be an estimated total of 11,000 respondents providing information on 17,450 grant awards. There will be 17,000 responses to the hiring survey, at .25 hours per response, for a total of 4,250 hours. There will be 450 responses to the MORE survey, at one hour per response, for a total of 450 hours.

(6) An estimate of the additional public burden (in hours) associated with the collection: The total estimated burden on the public is 4,700 hours annually.

If additional information is required contact: Brenda Dyer, Deputy Clearance Officer Information Management and Security Staff, Justice Management Division, United States Department of Justice, 601 D Street NW., Patrick Henry Building, Suite 1600, NW., Washington, DC 20530.

Dated: April 17, 2003.
Brenda Dyer,
Deputy Clearance Officer, United States Department of Justice.

[FR Doc. 03-9967 Filed 4-22-03; 8:45 am]

BILLING CODE 4410-AT-M